DEPARTMENT OF LABOR

Employment and Training Administration

Proposed Information Collection Request Submitted for Public Comment and Recommendations; Job Corps Placement and Assistance Record

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before April 5, 2004.

ADDRESSES: Send comments to the Office of Job Corps, 200 Constitution Ave., NW., N-4507, Washington, DC 20210. E-Mail Internet Address: cody.gayle@dol.gov; Telephone number: (202) 693-3000. Fax number: (202) 693-2767.

FOR FURTHER INFORMATION CONTACT: Gayle Cody, Office of Job Corps, 200 Constitution Ave., NW., Rm N-4507, Washington, DC 20210. E-Mail Internet Address: cody.gayle@dol.gov; Telephone number: (202) 693-3105. Fax number: (202) 693-3113.

SUPPLEMENTARY INFORMATION:

I. Background

The Job Corps program authorized by the Workforce Investment Act (WIA) of 1998, is designed to serve low-income young women and men, 16 through 24, who are in need of additional vocational, educational and social skills training, and other support services in order to gain meaningful employment, return to school, or enter the Armed Forces. Job Corps is operated by the Department of Labor through a nationwide network of 118 Job Corps centers. The program is primarily a residential program operating 24 hours per day, seven days per week, with non-resident enrollees limited by legislation to 20 percent of national enrollment. These centers presently accommodate more than 40,000 students.

The form ETA 678 is the only source of information about a student's training and subsequent placement in a job, further education, or military service. It is used to evaluate overall program effectiveness. The purpose of Job Corps is to train young people for the job market; the data collected on this automated form provides information as set forth in 20 CFR, subpart A, section 670.100.

II. Desired Focus of Comments

Currently, the Office of Job Corps is soliciting comments concerning the proposed extension of form ETA 678 Job Corps Placement and Assistant Record to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addresses section of this notice.

III. Current Actions

Type of Review: Extension.

Agency: Employment and Training Administration.

Title: Job Corps Placement and Assistance Record.

OMB Number: 1205-0035.

Agency Number: ETA 678.

Recordkeeping: The respondent is not required to retain records; Career Transition Service providers and center staff are required to retain records of graduates and former enrollees, who are placed in a job, further education, or military service for three years.

Affected Public: Individuals or households/Business or other for-profit/Not-for-profit institutions/State, Local, or Tribal Government.

Cite/Reference/Form/etc: 20 CFR, subpart A, section 670.100.

Estimated Total Burden Hours: 3,661 burden hours.

Form/activity | Total respondents | Frequency | Total responses | Average time per response (minutes) | Burden hours
ETA-678 | 37,372 placed students | Ongoing | 37,372 | 5 | 3,114
| 10,946 non-placed students | Ongoing | 10,946 | 3 | 547
Total | 48,318 | Ongoing | 48,318 | N/A | 3,661

Total Burden Cost (capital/startup): 0.

Total Burden Cost (operating/maintaining): $47,593.

Comments submitted in response to this notice will be summarized and/or included in the request for Office of Management and Budget approval of the information collection request; they will also become a matter of public record.

Dated: January 27, 2004.
Emily Stover DeRocco,
Assistant Secretary, Employment and Training Administrator.

[FR Doc. 04-2123 Filed 2-2-04; 8:45 am]

BILLING CODE 4510-30-M